DEPARTMENT OF THE INTERIOR

National Park Service

[NPS-WASO-NAGPRA-12739; PPWOCRADN0-PCU00RP14.R50000]

Notice of Inventory Completion for Native American Human Remains and Funerary Objects in the Possession of Big Cypress National Preserve, National Park Service, Ochopee, FL; Correction

AGENCY: National Park Service, Interior.

ACTION: Notice; correction.

SUMMARY: The U.S. Department of the Interior, National Park Service, Big Cypress National Preserve has corrected an inventory of human remains and associated funerary objects, published in a Notice of Inventory Completion in the Federal Register on February 26, 1996. This notice corrects the minimum number of individuals and number of associated funerary objects. Transfer of control of the items in this correction notice has occurred.

ADDRESSES: Pedro Ramos, Superintendent, Big Cypress National Preserve, 33100 Tamiami Trail East, Ochopee, FL 34141, telephone (239) 695-1103, email bicy_superintendent@nps.gov.

SUPPLEMENTARY INFORMATION: Notice is here given in accordance with the Native American Graves Protection and Repatriation Act (NAGPRA), 25 U.S.C. 3003, of the correction of an inventory of human remains and associated funerary objects under the control of the U.S. Department of the Interior, National Park Service, Big Cypress National Preserve, Ochopee, FL. The human remains and associated funerary objects were removed from Collier County, FL.

This notice is published as part of the National Park Service's administrative responsibilities under NAGPRA, 25 U.S.C. 3003(d)(3). The determinations in this notice are the sole responsibility of the Superintendent, Big Cypress National Preserve.

This notice corrects the minimum number of individuals and number of associated funerary objects published in a Notice of Inventory Completion in the Federal Register (61 FR 7120, February 26, 1996). A review of records found that the human remains and associated funerary objects from the Turner River #5 site were also described in another Notice of Inventory Completion published in the Federal Register (62 FR 18647, April 16, 1997). Transfer of control of the items in this correction notice has occurred.

Correction

In the Federal Register (61 FR 7120, February 26, 1996), paragraph 2, sentence 1 is corrected by substituting the following sentence:

The human remains and funerary objects were collected from six sites by National Park Service archeologists in 1977.

In the Federal Register (61 FR 7120, February 26, 1996), paragraph 10 is corrected by deleting the entire paragraph.

In the Federal Register (61 FR 7120, February 26, 1996), paragraph 11 is corrected by substituting the following paragraph:

Based on the above mentioned information, officials at Big Cypress National Preserve have determined that, pursuant to 43 CFR 10(d)(1), the human remains listed above represent the physical remains of at least three individuals of Native American ancestry. Officials of Big Cypress National Preserve have also determined that, pursuant to 25 U.S.C. 3001(3)(A) and (B), the 5,041 objects listed above are reasonably believed to have been placed with or near individual human remains at the time of death or later as part of the death rite or ceremony. Lastly, officials of the Big Cypress National Preserve have determined that, pursuant to 25 U.S.C. 3001(2), there is a relationship of shared group identity which can be reasonably traced between the human remains and funerary objects from the six sites and the Miccosukee Tribe of Indians.

Additional Requestors and Disposition

Transfer of control of the human remains and associated funerary objects occurred after the 30-day waiting period expired for the original February 26, 1996, Notice of Inventory Completion. For questions related to this notice, contact Pedro Ramos, Superintendent, Big Cypress National Preserve, 33100 Tamiami Trail East, Ochopee, FL 34141, telephone (239) 695-1103, email bicy_superintendent@nps.gov.

Big Cypress National Preserve is responsible for notifying the Miccosukee Tribe of Indians and Seminole Tribe of Florida (previously listed as the Seminole Tribe of Florida (Dania, Big Cypress, Brighton, Hollywood & Tampa Reservations)) that this notice has been published.

Dated: April 2, 2013.
Sherry Hutt,
Manager, National NAGPRA Program.

[FR Doc. 2013-10220 Filed 4-30-13; 8:45 am]

BILLING CODE 4312-50-P